DEPARTMENT OF THE TREASURY

Submission for OMB Review; Comment Request

August 28, 2002.

The Department of the Treasury has submitted the following public information collection requirement(s) to OMB for review and clearance under the Paperwork Reduction Act of 1995, Public Law 104-13. Copies of the submission(s) may be obtained by calling the Treasury Bureau of Clearance Officer listed. Comments regarding this information collection should be addressed to the OMB reviewer listed and to the Treasury Department Clearance Officer, Department of the Treasury, Room 2110, 1425 New York Avenue, NW., Washington, DC 20220.

DATES: Written comments should be received on or before October 4, 2002 to be assured of consideration.

Internal Revenue Service (IRS)

OMB Number: 1545-0127.

Form Number: IRS Form 1120-H.

Type of Review: Extension.

Title: U.S. Income Tax Return for Homeowners Associations.

Description: Homeowners associations file Form 1120-H to report income, deductions, and credits. The form is also used to report the income tax liability of the homeowners association. The IRS uses Form 1120-H to determine if the income, deductions, and credits have been correctly computed. The form is also used for statistical purposes.

Respondents: Business or other for-profit, State, Local or Tribal Government, Individuals or households.

Estimated Number of Respondents/Recordkeepers: 112,311.

Estimated Burden Hours Per Respondent/Recordkeeper:

Recordkeeping | 11 hr., 43 min.
Learning about the law or the form | 5 hr., 19 min.
Preparing the form | 13 hr., 12 min.
Copying, assembling, and sending the form to the IRS | 2 hr., 9 min.

Frequency of Response: Annually.

Estimated Total Reporting/Recordkeeping Burden: 3,638,877 hours.

OMB Number: 1545-0941.

Form Number: IRS Form 8308.

Type of Review: Extension.

Title: Report of a Sale or Exchange of Certain Partnership Interests.

Description: Form 8308 is an information return that gives the IRS the names of the parties involved in a section 751(a) exchange of a partnership interest. It is also used by the partnership as a statement to the transferor or transferee. It alters the transferor that a portion of the gain on the sale of a partnership interest may be ordinary income.

Respondents: Business or other for-profit, State, Local or Tribal Government, Individuals or households, Farms.

Estimated Number of Respondents/Recordkeepers: 200,000.

Estimated Burden Hours Per Respondent/Recordkeeper:

Recordkeeping | 2 hr., 23 min.
Learning about the law or the form | 2 hr., 22 min.
Preparing and sending the form to the IRS | 2 hr., 31 min.

Frequency of Response: On occasion.

Estimated Total Reporting/Recordkeeping Burden: 1,460,000 hours.

OMB Number: 1545-1218.

Regulation Project Number: CO-25-96 Final.

Type of Review: Extension.

Title: Regulations Under Section 1502 of the Internal Revenue Code of 1986; Limitations on Net Operating Loss Carryforwards and Certain Built-in Losses and Credits Following an Ownership Change of a Consolidated Group

Description: Section 1502 provides for the promulgation of regulations with respect to corporations that file consolidated income tax returns. Section 382 limits the amount of income that can be offset by loss carryovers and credits after an ownership change. These final regulations provide rules for applying section 382 to groups of corporations that file a consolidated return.

Respondents: Business or other for-profit.

Estimated Number of Respondents: 12,054.

Estimated Burden Hours Per Respondent: 20 minutes.

Frequency of Response: On occasion, Other (Changes in group membership)

Estimated Total Reporting Burden: 662 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Mary A. Able,
Departmental Reports, Management Officer.

[FR Doc. 02-22515 Filed 9-3-02; 8:45 am]

BILLING CODE 4830-01-M